OFFICE OF SPECIAL COUNSEL

Guidelines for Ensuring and Maximizing the Quality, Objectivity, Utility, and Integrity of Information Disseminated by the Office of Special Counsel (OSC)

AGENCY: Office of Special Counsel

ACTION: Final Agency Guidelines

SUMMARY: Pursuant to guidance issued by the Office of Management and Budget (OMB), the U.S. Office of Special Counsel (OSC) published a Federal Register (FR) notice on April 30, 2002, inviting public comment on its draft report to OMB with proposed OSC guidelines for ensuring and maximizing the quality, objectivity, utility, and integrity of certain information disseminated to the public (“information quality guidelines”). 67 FR 21316. This notice describes comments received, and announces the availability of OSC's final information quality guidelines.

DATES: Final OSC information quality guidelines become effective on October 2, 2002

FOR FURTHER INFORMATION CONTACT: Sharyn Danch, by mail (Planning and Advice Division, Office of Special Counsel, 1730 M Street, NW., (Suite 201), Washington, DC 20036-4505), or electronic mail (info_quality@osc.gov). OSC's final information quality guidelines are available on the agency Web site (http://www.osc.gov, at the “Reading Room” link).

SUPPLEMENTARY INFORMATION: OMB guidelines, issued to Federal agencies under section 515 of the Treasury and General Government Appropriations Act for Fiscal Year 2001 (Public Law 106-554, 114 Stat. 2763), provide that each agency should: (1) develop information resources management procedures and issue agency guidelines to ensure the quality, objectivity, utility and integrity of information disseminated by the agency to the public; (2) establish administrative mechanisms for affected persons to seek and obtain the correction of disseminated information that does not comply with the OMB or agency guidelines; and (3) report annually to OMB on requests for correction received by the agency and the resolution of those requests. OMB advises agencies to use common sense in adapting its guidelines to information disseminated to the public, taking into account the nature and importance of the information involved. Finally, OMB encourages agencies to incorporate standards and procedures required by its guidelines into existing agency information management and administrative practices, under applicable laws and OMB circulars.

On April 30, 2002, pursuant to the OMB guidelines, OSC published its draft report to OMB with proposed OSC information quality guidelines, and invited public comment on or before June 1, 2002. OSC received one response, from the Center for Regulatory Effectiveness (CRE), on May 30th, 2002. On June 6, 2002, OMB gave agencies an extension of time (to August 1, 2002) in which to submit their reports with proposed guidelines to OMB, and suggested that agencies consider extending the public comment period on their guidelines. 67 FR 40755. On July 8, 2002, OSC published a notice extending the public comment period to July 10, 2002. 67 FR 45168. A second response, received from Citizens for Sensible Safeguards (CSS) on June 14, 2002, was deemed to have been received during the comment period, as extended. OSC carefully considered both responses received.

CRE advised OSC that its response (entitled “Proposed CRE Generic Comments to all Federal Agencies Related to Data Quality Guidelines”) consisted of generic comments, provided to all Federal agencies on cross-cutting issues that might apply to draft guidelines of only some agencies. OSC reviewed the CRE comments, and identified two that might apply to its proposed guidelines.¹

¹ Six of CRE's 16 numbered comments (nos. 5, 11, 12, 14, 15, 16) addressed matters not applicable to information disseminated by OSC and, therefore, not addressed by its guidelines. Other comments (nos. 7, 8, and 9), critical of guidelines issued by some agencies, did not apply to OSC because its guidelines met or exceeded the standard(s) suggested by CRE. Several comments (nos. 2, 10, and 13, and discussion referring to no. 1) indicated dissatisfaction with definitions used in the OMB guidelines issued to agencies. OSC has decided to keep any definitions taken from the OMB guidelines, until such time as OMB may revise its guidelines to amend the definitions in question. As noted by CRE in its comments, “[a]ll agency guidelines are required to comply with the requirements set forth by OMB in their interagency February 22nd Final Guidelines. (statutory citations omitted).”

Under comment (1), CRE asserted that neither OMB nor Federal agencies have the authority to exempt types and categories of information from their guidelines. CRE maintained that the OMB guidelines improperly limited the relevant statutory language requiring that guidelines apply to “information...disseminated by Federal agencies,” by including certain exemptions in the definition of “dissemination.”² CRE stated that “any information that an agency has in fact made public” must be covered. OSC's proposed guidelines incorporated the OMB definition of “dissemination” with the included exemptions. OSC believes that no change should be made in its guidelines until such time as OMB may revise its guidelines to amend the definition and exemptions in question.³

² “Dissemination does not include distribution limited to government employees or agency contractors or grantees; intra- or inter-agency use or sharing of government information; and responses to requests for agency records under the Freedom of Information Act, the Privacy Act, the Federal Advisory Committee Act or other similar law. This definition also does not include distribution limited to correspondence with individuals or persons, press releases, archival records, public filings, subpoenas or adjudicative processes.” 67 FR 8452, 8460 (Feb. 22, 2002).

³ See last sentence of fn. 1, above. OSC's proposed guidelines did not add exemptions to those defined by OMB. Those parts of CRE comments (1), (3), and (4) that addressed agency guidelines defining other exemptions did not apply to OSC.

Under comment (6), CRE stated that in determining who may file an administrative complaint requesting correction of disseminated information, agencies should use a broad definition of “affected persons,” noting with favor the definition OMB used in its guidelines to agencies.⁴ While the draft report to OMB described specific target audiences for information disseminated by OSC,⁵ a description of “affected persons” was not included in the agency's proposed guidelines. OSC agrees that such a description should appear in the guidelines. Part IV.C. of OSC's guidelines, therefore, now describes, by reference to the target audiences described in its initial report to OMB and in OMB's guidelines for Federal agencies, affected persons who can file an administrative request for correction.

⁴ OMB defined affected persons as “people who may benefit or be harmed by the disseminated information ... includ[ing] persons who are seeking to address information about themselves as well as persons who use information. (citation omitted).”

⁵ “Primary target audiences ... are current and former federal government employees, applicants for federal employment, employee representatives, and state and local government employees (i.e., persons affected by or interested in the laws and regulations enforced by OSC).” 67 FR 21317.

The comment received from CSS also consisted of generic, non-agency specific comments. OSC reviewed all the comments and determined that no changes to its proposed guidelines were needed. One or more of the following factors applied to each comment: (1) OSC guidelines met or exceeded the standards suggested by CSS; (2) the comment concerned a type of information not disseminated by OSC; or (3) the proposed OSC guidelines adopted or mirrored provisions in OMB's guidance to Federal agencies.

After review of the public responses received, OSC sent its report and proposed information quality guidelines for OMB review and comment on August 1, 2002, and for final review on September 17, 2002. Pursuant to OMB's review and further guidance to Federal agencies, OSC revised its proposed guidelines to: (1) clarify that OSC press releases typically contain information about matters not covered under OMB's guidelines, and (2) conform times for responses to requestors seeking corrections of information, and appealing OSC decisions on those requests, from 30 to 60 days.

OSC's final information quality guidelines and September 17, 2002, report to OMB are available, upon publication of this notice, on the agency's Web site, (http://www.osc.gov at the “Reading Room” link).

Dated: September 26, 2002.
Elaine D. Kaplan,
Special Counsel.

[FR Doc. 02-25041 Filed 10-1-02; 8:45 am]

BILLING CODE 7405-01-M